DEPARTMENT OF TRANSPORTATION

Office of the Secretary

Notice of Applications for Certificates of Public Convenience and Necessity and Foreign Air Carrier Permits Filed Under Subpart B (Formerly Subpart Q) During the Week Ending December 23, 2005

The following Applications for Certificates of Public Convenience and Necessity and Foreign Air Carrier Permits were filed under Subpart B (formerly Subpart Q) of the Department of Transportation's Procedural Regulations (See 14 CFR 301.201 et seq.).

The due date for Answers, Conforming Applications, or Motions to Modify Scope are set forth below for each application. Following the Answer period DOT may process the application by expedited procedures. Such procedures may consist of the adoption of a show-cause order, a tentative order, or in appropriate cases a final order without further proceedings.

Docket Number: OST-1999-5868 and OST-2005-22228.

Date Filed: December 20, 2005.

Due Date for Answers, Conforming Applications, or Motion to Modify Scope: January 10, 2006.

Description: Amendment number one of Continental Airlines, Inc. to its application for renewal and amendment of its Route 561 U.S.-Mexico certificate authority to provide seasonal scheduled air transportation of persons, property and mail between the additional U.S.-Mexico city-pairs currently operated by Continental.

Docket Number: OST-2005-23461.

Date Filed: December 22, 2005.

Due Date for Answers, Conforming Applications, or Motion to Modify Scope: January 12, 2006.

Description: Application of Virgin Nigeria Airways Limited requesting authority to engage in foreign scheduled and charter air transportation of persons, property and mail between Nigeria and the United States.

Docket Number: OST-2005-23467.

Date Filed: December 23, 2005.

Due Date for Answers, Conforming Applications, or Motion to Modify Scope: January 13, 2006.

Description: Application of Arrow Panama, S.A. requesting a foreign air carrier permit authorizing it to engage in scheduled air transportation of property and mail from points behind the Republic of Panama, via the Republic of Panama and intermediate points to a point or points in the United States, and beyond.

Renee V. Wright,
Program Manager, Docket Operations, Federal Register Liaison.

[FR Doc. E6-574 Filed 1-18-06; 8:45 am]

BILLING CODE 4910-62-P